LEGAL SERVICES CORPORATION

Sunshine Act Meeting of the Board of Directors

Time and Date: The Board of Directors of the Legal Services Corporation will meet on November 4, 2003 via conference call. The meeting will begin at 11 a.m., and continue until conclusion of the Board's agenda.

Location: Strickland Brockington Lewis LLP, Midtown Proscenium, Suite 2000, 1170 Peachtree Street, NE., Atlanta, GA 30309.

Status of Meeting: Open, except that a portion of the meeting may be closed pursuant to a vote of the Board of Directors authorizing the executive session. The closing is authorized by the relevant provisions of the Government in the Sunshine Act [5 U.S.C. 552b(6), (7) and (9)(b)] and the corresponding provisions of the Legal Services Corporation's implementing regulation [45 CFR 1622.5(e), (f)(4) and (g)]. A copy of the General Counsel's Certification that the closing is authorized by law will be available upon request.

Matters To Be Considered

Open Session

1. Approval of the agenda.

2. Consider and act on whether to go into executive session.

Closed Session

3. Consider and act on internal personnel matter.

Open Session

4. Consider and act on other business.

5. Consider and act on adjournment of meeting.

Contact Person for Information: Patricia Batie, Vice President for Legal Affairs, General Counsel & Corporate Secretary, at (202) 295-1500.

Special Needs: Upon request, meeting notices will be made available in alternate formats to accommodate visual and hearing impairments. Individuals who have a disability and need an accommodation to attend the meeting may notify Patricia Batie, at (202) 295-1500.

Dated: October 31, 2003.
Victor M. Fortuno,
Vice President for Legal Affairs, General Counsel & Corporate Secretary.

[FR Doc. 03-27945 Filed 11-3-03; 10:45 am]

BILLING CODE 7050-01-U